NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (1755).

Date and Time: April 25, 2018; 10:00 a.m.-4:00 p.m. EDT, April 26, 2018; 10:00 a.m.-3:00 p.m. EDT.

Place: National Science Foundation, 2415 Eisenhower Avenue, Alexandria, Virginia 22314 (Virtual).

Type of Meeting: Open.

Contact Person: Melissa Lane, National Science Foundation, Room C 8000, 2415 Eisenhower Avenue, Alexandria, Virginia 22314; Telephone: 703-292-8500.

Minutes: May be obtained from the contact person listed above.

Purpose of Meeting: To provide advice, recommendations, and oversight on support for geoscience research and education including atmospheric, geo-space, earth, ocean and polar sciences.

Agenda

Wednesday, April 25, 2018

• Directorate and NSF activities and plans

• Committee Discussion on Public Comments Received on Dynamic Earth Report Update

• Meeting with the NSF Director and COO

Thursday, April 26, 2018

• Division Meetings

• Summary of and Actions from Spring Meeting of AC OPP

• Committee Discussion on Outline for Dynamic Earth Update

• Action Items/Planning for Spring 2018 Meeting

Updates to the agenda and a link for accessing this virtual meeting will be posted on the AC GEO website at: www.nsf.gov/geo/advisory.jsp.

Dated: March 14, 2018.
Crystal Robinson,
Committee Management Officer.

[FR Doc. 2018-05487 Filed 3-16-18; 8:45 am]

BILLING CODE 7555-01-P